DEPARTMENT OF DEFENSE

Office of the Secretary

[Transmittal No. 25-49]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-49 and Policy Justification.

Dated: January 26, 2026.
Stephanie J. Bost,
Alternate OSD Federal Register Liaison Officer, Department of Defense.

BILLING CODE 6001-FR-P

BILLING CODE 6001-FR-C

Transmittal No. 25-49

Notice of Proposed Issuance of Letter of Offer Pursuant to Section 36(b)(1) of the Arms Export Control Act, as amended

(i) Prospective Purchaser: Government of Singapore

(ii) Total Estimated Value:

Major Defense Equipment * | $ 0
Other | $353 million
TOTAL | $353 million

Funding Source: National Funds

(iii) Description and Quantity or Quantities of Articles or Services under Consideration for Purchase: Foreign Military Sales (FMS) case SN-D-GFU was below congressional notification threshold at $27 million ($0 in MDE) and included United States (U.S.) government and contractor engineering, technical, and logistics support services, and other related elements of logistics and program support. The Government of Singapore has requested the case be amended to include construction services at Ebbing Air National Guard Base and other related elements of logistics and program support. This amendment will cause the case to exceed the notification threshold, and thus notification of the entire program is required. The above notification requirements are combined as follows:

Major Defense Equipment (MDE):

None

Non-Major Defense Equipment:

Construction services at Ebbing Air National Guard Base, including studies and surveys; transportation support; U.S. government and contractor engineering, technical, and logistics support services, and other related elements of logistics and program support.

(iv) Military Department: Air Force (SN-D-GFU)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: October 31, 2025

* as defined in Section 47(6) of the Arms Export Control Act.

POLICY JUSTIFICATION

Singapore—Ebbing Air National Guard Base Construction Services

The Government of Singapore has requested to buy construction services at Ebbing Air National Guard Base and other related elements of logistics and program support that will be added to a previously implemented case whose value was under the congressional notification threshold. The original Foreign Military Sales (FMS) case, valued at $27 million ($0 in MDE), included U.S. government and contractor engineering, technical, and logistics support services, and other related elements of logistics and program support. The estimated total cost is $353 million.

This proposed sale will enhance the foreign policy and national security objectives of the U.S. by improving the security of a strategic partner that is an important force for political stability and economic progress in Asia.

The proposed sale will improve Singapore's capability to maintain operational readiness and interoperability with U.S. and coalition forces. Singapore will have no difficulty absorbing these articles and services into its armed forces.

The proposed sale of this equipment and support will not alter the basic military balance in the region.

There are no principal contractors associated with this potential sale. At this time, the U.S. government is not aware of any offset agreement proposed in connection with this potential sale. Any offset agreement will be defined in negotiations between the purchaser and the contractor.

Implementation of this proposed sale will not require the assignment of any additional U.S. government or contractor representatives to Singapore.

There will be no adverse impact on U.S. defense readiness as a result of this proposed sale.

[FR Doc. 2026-01715 Filed 1-28-26; 8:45 am]

BILLING CODE 6001-FR-P